DEPARTMENT OF EDUCATION

[Docket No.: ED-2023-SCC-0091]

Agency Information Collection Activities; Submission to the Office of Management and Budget for Review and Approval; Comment Request; Statewide Longitudinal Data System (SLDS) Survey 2023-2025

AGENCY: Institute of Education Sciences (IES), Department of Education (ED).

ACTION: Notice.

SUMMARY: In accordance with the Paperwork Reduction Act (PRA) of 1995, the Department is proposing a revision of a currently approved information collection request (ICR).

DATES: Interested persons are invited to submit comments on or before September 28, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, 202-245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Statewide Longitudinal Data System (SLDS) Survey 2023-2025.

OMB Control Number: 1850-0933.

Type of Review: A revision of a currently approved ICR.

Respondents/Affected Public: State, Local, and Tribal Governments.

Total Estimated Number of Annual Responses: 75.

Total Estimated Number of Annual Burden Hours: 94.

Abstract: The National Center for Education Statistics (NCES), of the Institute of Education Sciences (IES), within the U.S. Department of Education, is requesting clearance to continue the Statewide Longitudinal Data System (SLDS) Survey collection, which is intended to provide insight on State and U.S. territory SLDS capacity for automated linking of K-12, teacher, postsecondary, workforce, career and technical education (CTE), adult education, and early childhood data. Historically, SLDS has collected information annually from State Education Agencies (SEAs) and has helped inform NCES ongoing evaluation and targeted technical assistance efforts to enhance the quality of the SLDS Program's support to States regarding systems development, enhancement, and use. The request to conduct all activities related to SLDS 2021-2023, including materials and procedures, was approved by OMB in October 2021 (OMB #1859-0933 v.10),

This new request is to conduct all activities related to SLDS 2023-25, continuing usage of the Qualtrics information collection tool initiated in the 2023 collection. The appendices include updated communications, webinars, and Qualtrics instrument screenshots related to the SLDS 2023-25 collection. While minor adjustments were made to questions and language, the primary change proposed in this package is a shift from an annual to a biennial collection. Nationwide, SLDS system capacity changes frequently (ex. Infrastructure enhancements, evolving P20W agency collaborations, State legislation impacts, etc.), but analysis demonstrates that the COVID-19 pandemic stagnated the work to some extent. The 2019-20 Statistics in Brief and accompanying data file (anticipated May 2023 publication release) indicate very little change in results over the two-year period, indicating that shifting to an every-other-year collection would allow for more timely releases of data, with no adverse effect on the integrity of the information.

Dated: August 23, 2023.
Kun Mullan,
PRA Coordinator, Strategic Collections and Clearance, Governance and Strategy Division, Office of Chief Data Officer, Office of Planning, Evaluation and Policy Development.

[FR Doc. 2023-18538 Filed 8-28-23; 8:45 am]

BILLING CODE 4000-01-P